ENVIRONMENTAL PROTECTION AGENCY

[FRL-6948-2]

Notice of Reopening of the Comment Period for Method 203: Determination of the Opacity of Emissions From Stationary Sources by Continuous Opacity Monitoring Systems

AGENCY: Environmental Protection Agency (EPA).

ACTION: Notice.

SUMMARY: We, the Environmental Protection Agency (EPA), are reopening the comment period in order to afford the public the opportunity to provide new, clarifying, or updated comments on Method 203, part 51, appendix M, which was proposed on October 7, 1992 (57 FR 46114). Method 203 specifies quality assurance requirements and procedures that must be performed by the continuous opacity monitoring system (COMS) operator after the initial demonstration of compliance with Performance Specification 1 (PS-1). We will consider these comments in deciding whether to re-propose Method 203 in its entirety, publish a supplemental proposal on Method 203, or to publish an amended version of Method 203 as a Final Rule. We believe it is necessary to reopen the comment period as a courtesy to the public due to the length of time since the original proposal. It was decided to delay the Method 203 proposal until the revisions to PS-1 were promulgated. Also, we were aware that the PS-1 revisions would have an impact on any action taken with Method 203, therefore we wanted to give the public the opportunity to comment on Method 203 as it relates to the revisions to PS-1 (65 FR 48885). PS-1 outlines the design and performance requirements for COMS.

DATES: Comments. Comments must be received on or before March 30, 2001.

ADDRESSES: Comments. Comments should be submitted (in duplicate) to: Office of Air and Radiation Docket and Information Center (Mail code 6102), Attention: Docket Number A-91-08, U.S. Environmental Protection Agency, 401 M Street S.W., Washington, DC 20460.

Docket. Docket number A-91-08, containing materials relevant to this rulemaking, is available for public inspection and copying between 8:00 a.m. to 5:30 p.m., on all federal government work days at the Office of Air and Radiation Docket and Information Center. The Docket is located at 401 M Street S.W., Washington, DC 20460, room number M-1500. A reasonable fee may be charged for the duplication of materials.

FOR FURTHER INFORMATION CONTACT: Mr. Solomon Ricks at (919) 541-5242, U.S. EPA, Emission Measurement Center, Research Triangle Park, North Carolina, 27711.

SUPPLEMENTARY INFORMATION: On October 7, 1992, we proposed Method 203 (57 FR 46114) as a means of providing states with an instrumental test method which could be used in determining, on a continuous basis, compliance with stationary source opacity emission limitations. In view of the significant amount of time that has passed since the proposal was published, we believe it is appropriate to offer the public another opportunity to comment on proposed Method 203. In particular, we are seeking comment on whether the requirements and procedures outlined in the proposal remain appropriate, or whether newer technologies and/or procedures have become available which we should consider before taking final action on this proposed rule.

Subsequent to the proposal, we received comments questioning whether Method 203, when adopted, should be codified at 40 CFR part 51, appendix M, as proposed. Commenters suggested that it would be more appropriate to codify this method at 40 CFR part 60, appendix F because the proposed method outlines the quality assurance procedures for COMS, and appendix F contains quality assurance procedures for continuous monitoring equipment. For this reason, we also seek public comment on placing Method 203 in part 60, appendix F as “Procedure 2. Quality Assurance Requirements for Continuous Opacity Monitoring Systems Used for Compliance Determination.” Based on comments provided during this additional 30-day comment period, we will take appropriate action on the proposed Method 203, which may include re-proposing the rule in its entirety, issuing a supplemental notice of proposed rulemaking, or adopting the rule in final form, with only minor changes. We will make the comments received during this comment period available to the public through the public docket (Docket Number A-91-08). A draft document containing a summary of the comments received on the 1992 proposal is also available in the public docket.

You may download a copy of proposed Method 203 via the world wide web at http://www.epa.gov/ttnemc01/frpromth.html. In addition, you may obtain copies of the 1992 proposal and previously submitted public comments through Docket Number A-91-08, which contains all materials relevant to this rulemaking, and is available for public inspection between 8:00 a.m. and 5:30 p.m., Monday through Friday (except for Federal holidays) at the following address: U.S. Environmental Protection Agency, Office of Air and Radiation Docket and Information Center (MC-6102), Room M-1500, 401 M Street S.W., Washington, DC 20460, telephone: (202) 260-7548. A reasonable fee may be charged for copying.

Dated: February 16, 2001.
Robert D. Brenner,
Acting Assistant Administrator, for Air and Radiation.

[FR Doc. 01-4867 Filed 2-27-01; 8:45 am]

BILLING CODE 6560-50-P